FEDERAL COMMUNICATIONS COMMISSION

Network Reliability and Interoperability Council

AGENCY: Federal Communications Commission.

ACTION: Notice of public meeting.

SUMMARY: In accordance with the Federal Advisory Committee Act (FACA), this notice advises interested persons of the last meeting of the Network Reliability and Interoperability Council (Council) under its charter renewed as of December 29, 2003. The meeting will be held at the Federal Communications Commission in Washington, DC.

DATES: Friday, December 16, 2005 beginning at 9 a.m. and concluding at 11 a.m.

ADDRESSES: Federal Communications Commission, 445 12th St., SW., Room TW-305, Washington, DC.

FOR FURTHER INFORMATION CONTACT: Jeffery Goldthorp, the Designated Federal Officer (DFO) at (202) 418-1096 or Jeffery.Goldthorp@fcc.gov. The TTY number is: (202) 418-2989.

SUPPLEMENTARY INFORMATION: The purpose of the Council is to provide recommendations to the FCC and to the communications industry that, if implemented, shall under all reasonably foreseeable circumstances assure optimal reliability and interoperability of wireless, wireline, satellite, cable, and public data networks. At this sixth and last meeting under the Council's current charter, the Council will review recommendations from its focus groups, including best practices for addressing near-term E911 issues, final recommendations for next generation E911 architectures and transition issues, new best practices for improving the reliability of E911 networks and services, target network architectures for communications with emergency services personnel, and best practices for network security.

Members of the general public may attend the meeting. The Federal Communications Commission will attempt to accommodate as many people as possible. Admittance, however, will be limited to the seating available. The public may submit written comments before the meeting to Jeffery Goldthorp, the Commission's Designated Federal Officer for the Network Reliability and Interoperability Council, by e-mail (Jeffery.Goldthorp@fcc.gov) or U.S. Postal Service mail (7-A325, 445 12th St, SW., Washington, DC 20554). Real Audio and streaming video access to the meeting will be available at http://www.fcc.gov/realaudio/

Federal Communications Commission.
Marlene H. Dortch,
Secretary.

[FR Doc. 05-22985 Filed 11-22-05; 8:45 am]

BILLING CODE 6712-01-P